SECURITIES AND EXCHANGE COMMISSION

Sunshine Act Meeting

Federal Register Citation Of Previous Announcement: 73 FR 21165, April 18, 2008 and 73 FR 22184, dated April 24, 2008.

Status: Open Meeting.

Place: 100 F Street, NE., Washington, DC.

Date and Time of Previously Announced Meeting: May 14, 2008 at 10 a.m.

Change in the Meeting: Additional Item.

The following matter will also be considered during the 10 a.m. Open Meeting scheduled for Wednesday, May 14, 2008, at 10 a.m., in the Auditorium, Room L-002:

Item 2: The Commission will consider whether to propose amendments to provide for mutual fund risk/return summary information to be filed with the Commission in interactive data format.

At times, changes in Commission priorities require alterations in the scheduling of meeting items. For further information and to ascertain what, if any, matters have been added, deleted or postponed, please contact the Office of the Secretary at (202) 551-5400.

Dated: May 7, 2008.
Nancy M. Morris,
Secretary.

[FR Doc. E8-10617 Filed 5-12-08; 8:45 am]

BILLING CODE 8010-01-P